ENVIRONMENTAL PROTECTION AGENCY

[FRL-12143-01-OMS]

Good Neighbor Environmental Board

AGENCY: Environmental Protection Agency (EPA).

ACTION: Notice of meeting.

SUMMARY: Under the Federal Advisory Committee Act, the Environmental Protection Agency (EPA) gives notice of a public meeting of the Good Neighbor Environmental Board (GNEB). The purpose of this meeting is for the Board to discuss and approve its first in the series of four comment letters that will comprise the GNEB 21st report.

DATES: September 4, 2024, from 9 a.m.-1 p.m. (MT) and September 5, 2024, from 9 a.m.-1 p.m. (MT).

ADDRESSES: The meeting will be held at the U.S. EPA Region 6, El Paso Border Office, 511 E San Antonio Avenue, Suite 145, El Paso, Texas 79901.

FOR FURTHER INFORMATION CONTACT: Eugene Green at (202) 564-2432 or via email at green.eugene@epa.gov.

SUPPLEMENTARY INFORMATION: The Board is an independent federal advisory committee chartered under the Federal Advisory Committee Act, 5 U.S.C. 10. Its mission is to advise the President and Congress of the United States on good neighbor practices along the U.S. border with Mexico. Its recommendations are focused on environmental infrastructure needs within the U.S. states contiguous to Mexico. A copy of the agenda will be posted at www.epa.gov/faca/gneb. The meeting will be held virtually and in-person in El Paso, Texas at the EPA Region 6, El Paso Border Office, 511 E San Antonio Avenue, Suite 145, El Paso, Texas 79901. The meeting is open to the public with limited seating available for in-person attendance and on a first come first serve basis. Members of the public wishing to participate or attend in-person must contact Eugene Green at green.eugene@epa.gov or 202-564-2432 by August 28, 2024, to register. Members of the public wishing to attend or participate virtually must contact Eugene Green with the information above by August 28, 2024, to receive a link to the meeting. The Federal Protective Service requires 48-hour notification for guests entering federal government spaces, therefore, it is imperative that the timeframe noted is met prior to the meeting.

Requests to make oral comments or submit written public comments to the Board, should also be directed to Eugene Green at least five business days prior to the meeting (August 28, 2024). Requests for accessibility and/or accommodations for individuals with disabilities should be directed to Eugene Green at the phone number or email address listed below. To ensure adequate time for processing, please make requests for accommodations at least 10 business days (August 21, 2024) prior to the meeting.

Oscar Carrillo,
Program Analyst.

[FR Doc. 2024-18329 Filed 8-15-24; 8:45 am]

BILLING CODE 6560-50-P